DEPARTMENT OF HEALTH AND HUMAN SERVICES

National Institutes of Health

Center for Scientific Review; Amended Notice of Meeting

Notice is hereby given of a change in the meeting of the Macromolecular Structure and Function D Study Section, October 10, 2013, 08:00 a.m. to October 10, 2013, 05:00 p.m., Washington Plaza Hotel, 10 Thomas Circle NW., Washington, DC 20005, which was published in the Federal Register on September 11, 2013, 78 FR 55753.

The meeting will be held on December 2, 2013 at the National Institutes of Health, 6701 Rockledge Drive, Bethesda, MD 20892. The meeting time remains the same. The meeting is closed to the public.

Dated: October 30, 2013.
David Clary,
Program Analyst, Office of Federal Advisory Committee Policy.

[FR Doc. 2013-26313 Filed 11-1-13; 8:45 am]

BILLING CODE 4140-01-P